DEPARTMENT OF COMMERCE

National Oceanic and Atmospheric Administration

RIN 0648-XG990

Draft Cook Inlet & Kodiak Marine Mammal Disaster Response Guidelines

AGENCY: National Marine Fisheries Service (NMFS), National Oceanic and Atmospheric Administration (NOAA), Commerce.

ACTION: Notice of availability.

SUMMARY: NMFS, in an effort to increase preparedness for wildlife response under the Oil Pollution Act of 1990, has drafted guidelines for marine mammal response in disaster situations in Cook Inlet and Kodiak, Alaska entitled “Cook Inlet & Kodiak Marine Mammal Disaster Response Guidelines” (Guidelines). NMFS invites the public to comment on and/or provide additional information for NMFS to consider in finalizing the guidelines.

DATES: Comments must be submitted on or before June 24, 2019.

ADDRESSES: You may submit comments on this document, identified by NOAA-NMFS-2019-0038, by any one of the following methods;

• Electronic Submission: Submit all electronic public comments via the Federal e-Rulemaking Portal. Go to www.regulations.gov/#!docketDetail;D=NOAA-NMFS-2019-0038, click the “Comment Now!” icon, complete the required fields, and enter or attach your comments;

• Mail: Submit written comments to Sadie Wright, attention Ellen Sebastian, National Marine Fisheries Service, Protected Resources Division, Alaska Region, 709 West 9th Street, P.O. Box 21668, Juneau, AK 99802.

Instructions: Comments sent by any other method, to any other address or individual, or received after the end of the comment period, may not be considered by NMFS. All comments received are a part of the public record and will generally be posted for public viewing on www.regulations.gov without change. All personal identifying information (e.g., name, address), confidential business information, or otherwise sensitive information submitted voluntarily by the sender will be publicly accessible. NMFS will accept anonymous comments (enter “N/A” in the required fields if you wish to remain anonymous).

Electronic copies of the draft Guidelines and associated Appendices may be obtained from http://www.regulations.gov or from the NMFS Alaska Region website at https://www.fisheries.noaa.gov/alaska/marine-life-distress/alaska-marine-mammal-stranding-network.

FOR FURTHER INFORMATION CONTACT: Sadie Wright, (907) 586-7630 or Sadie.Wright@noaa.gov.

SUPPLEMENTARY INFORMATION: Marine mammal oil spill response and preparedness in the Cook Inlet and Kodiak region of Alaska presents many challenges including remote conditions; lack of infrastructure, equipment, and trained personnel; and large populations of marine mammals that may be impacted. Additionally, marine mammals are important subsistence and cultural resources for Alaska Native coastal communities, and response efforts must be cooperative with and sensitive to local communities. NMFS developed the Guidelines through stakeholder engagement to develop regionally specific and culturally sensitive response strategies during disasters that impact marine mammals.

NMFS sought input on communication and response protocols for carcass collection, de-oiling, tissue sampling, necropsies, and subsistence food issues through meetings with local leaders and responders in Kenai, Seward, Ninilchik, Seldovia, Port Graham, Homer, Anchorage, Nanwalek, Kodiak, Ouzinkie, Port Lions, Larsen Bay, and teleconferences and email correspondence with outlying communities. These stakeholder meetings resulted in three key recommendations for the Guidelines:

(1) Include a communication structure that is locally based and efficient;

(2) prioritize response to address impacts to fish and associated public health and economy; and

(3) address the lack of infrastructure, equipment, and trained personnel for response efforts.

These recommendations are addressed by the Guidelines in the following ways:

(1) The local marine mammal stranding agreement holder or community-appointed organization(s) is the local lead, and communication protocols outline cooperative approaches between stakeholders;

(2) All response protocols are congruent with food safety testing, and the Alaska state public health representative is part of the communication loop; and

(3) Caches of equipment should be developed and stored in hub communities with smaller caches in outlying villages, to include modular and adaptive infrastructure for response activities.

Finally, the Guidelines provide decision-making tools regarding Cook Inlet beluga whale deterrence that will be useful to NMFS protocols, and to other responders to gain a better understanding of potential concerns in deterring this endangered population.

The draft Guidelines focus on marine mammal species under NMFS jurisdiction that occur in Cook Inlet and within the Kodiak archipelago. Different approaches may be appropriate for sea otters, which are managed by the U.S. Fish and Wildlife Service. Any response to marine mammals per these Guidelines should occur in coordination with NMFS through the Incident Command Structure, if put in place for an oil spill or other major incident. The draft Guidelines also focus primarily on marine mammal response during oil spills, but include considerations for response in a non-spill disaster situation such as a natural disaster (response typically under the Stafford Act) or a marine mammal Unusual Mortality Event.

Comments are invited on any aspect of the draft Guidelines. We are particularly interested in maintaining an efficient communication strategy for marine mammal disaster response in the Cook Inlet and Kodiak region, and seek suggestions to ensure the final Guidelines provide that framework. In addition, NMFS appreciates specific suggestions on how to improve the clarity of the draft Guidelines.

Dated: May 21, 2019.
Catherine Marzin,
Acting Director, Office of Protected Resources, National Marine Fisheries Service.

[FR Doc. 2019-10905 Filed 5-23-19; 8:45 am]

BILLING CODE 3510-22-P